DEPARTMENT OF COMMERCE

National Oceanic and Atmospheric Administration

[I.D. 041807D]

Pacific Fishery Management Council; Public Meeting/Workshop

AGENCY: National Marine Fisheries Service (NMFS), National Oceanic and Atmospheric Administration (NOAA), Commerce.

ACTION: Notice of three public meetings.

SUMMARY: Three Groundfish Stock Assessment Review (STAR) Panels will hold work sessions which are open to the public. The first STAR Panel will review new assessments for sablefish and longnose skate. The second STAR Panel will review new assessments for black rockfish and blue rockfish. The third STAR Panel will review new assessments for bocaccio and chilipepper rockfish.

DATES: The sablefish and longnose skate STAR Panel will be held beginning at 12:30 p.m., Monday, May 7, 2007. The meeting will continue on Tuesday, May 8, 2007 beginning at 8:30 a.m. through Friday, May 11, 2007. The meetings will end at 5 p.m. each day, or as necessary to complete business.

The black rockfish and blue rockfish STAR Panel will be held beginning at 12:30 p.m. on Monday, May 21, 2007. The meeting will continue on Tuesday, May 22, 2007 beginning at 8:30 a.m. through Friday, May 25, 2007. The meetings will end at 5 p.m. each day, or as necessary to complete business.

The bocaccio and chilipepper rockfish STAR Panel will be held beginning at 12:30 p.m. on Monday, June 25, 2007. The meeting will continue on Tuesday, June 26, 2007, beginning at 8:30 a.m. through Friday, June 29, 2007. The meetings will end at 5 p.m. each day, or as necessary to complete business.

ADDRESSES: The sablefish and longnose skate STAR Panel meeting will be held at NMFS, Hatfield Marine Science Center, Captain R. Barry Fisher Building, 2032 S.E. Oregon State University Drive, Newport, OR 97365-5296; telephone: (541) 867-0501.

The black rockfish and blue rockfish STAR Panel meeting will be held at Pacific States Marine Fisheries Commission, 205 S.E. Spokane Street, Suite 100, Portland, OR 97202; telephone: (503) 595-3100.

The bocaccio and chilipepper rockfish STAR Panel meeting will be held at NMFS, Southwest Fisheries Science Center, Meeting Room 188, 110 Shaffer Road, Santa Cruz, CA 95060; telephone: (831) 420-3900.

Council address: Pacific Fishery Management Council, 7700 NE Ambassador Place, Suite 101, Portland, OR 97220-1384.

FOR FURTHER INFORMATION CONTACT: Ms. Stacey Miller, Northwest Fisheries Science Center (NWFSC); telephone: (206) 437-5670; or Mr. John DeVore, Pacific Fishery Management Council; telephone: (503) 820-2280.

SUPPLEMENTARY INFORMATION: The purpose of the STAR Panel meetings is to review draft stock assessment documents and any other pertinent information, work with the Stock Assessment Teams to make necessary revisions, and produce STAR Panel reports for use by the Council family and other interested persons. No management actions will be decided by these STAR Panels. The STAR Panels' role will be development of recommendations and reports for consideration by the Council at either its June meeting in Foster City, CA (sablefish and longnose skate) or its September meeting in Boise, ID (black rockfish, blue rockfish, bocaccio, and chilipepper rockfish).

Although non-emergency issues not contained in the meeting agenda may come before the STAR Panel participants for discussion, those issues may not be the subject of formal STAR Panel action during these meetings. STAR Panel action will be restricted to those issues specifically listed in this notice and any issues arising after publication of this notice that require emergency action under Section 305(c) of the Magnuson-Stevens Fishery Conservation and Management Act, provided the public has been notified of the STAR Panel participants' intent to take final action to address the emergency.

Special Accommodations

These meetings are physically accessible to people with disabilities. Requests for sign language interpretation or other auxiliary aids should be directed to Ms. Carolyn Porter at (503) 820-2280 at least 5 days prior to the meeting date.

Dated: April 18, 2007.
Tracey L. Thompson,
Acting Director, Office of Sustainable Fisheries, National Marine Fisheries Service.

[FR Doc. E7-7674 Filed 4-20-07; 8:45 am]

BILLING CODE 3510-22-S